DEPARTMENT OF HEALTH AND HUMAN SERVICES

Centers for Disease Control and Prevention

[60Day-13-13AHG]

Proposed Data Collections Submitted for Public Comment and Recommendations

In compliance with the requirement of Section 3506(c)(2)(A) of the Paperwork Reduction Act of 1995 for opportunity for public comment on proposed data collection projects, the Centers for Disease Control and Prevention (CDC) will publish periodic summaries of proposed projects. To request more information on the proposed projects or to obtain a copy of the data collection plans and instruments, call 404-639-7570 or send comments to LeRoy Richardson, 1600 Clifton Road, MS-D74, Atlanta, GA 30333 or send an email to omb@cdc.gov.

Comments are invited on: (a) Whether the proposed collection of information is necessary for the proper performance of the functions of the agency, including whether the information shall have practical utility; (b) the accuracy of the agency's estimate of the burden of the proposed collection of information; (c) ways to enhance the quality, utility, and clarity of the information to be collected; and (d) ways to minimize the burden of the collection of information on respondents, including through the use of automated collection techniques or other forms of information technology. Written comments should be received within 60 days of this notice.

Proposed Project

Evaluation of Food Safety Programs—New—National Center for Environmental Health (NCEH), Centers for Disease Control and Prevention (CDC).

Background and Brief Description

Local and state food safety programs (FSPs) are on the frontline of foodborne disease prevention in the U.S. Through the Environmental Health Specialists Network (EHS-Net), CDC currently funds and works with local and state health departments in five states (California, New York, Minnesota, Rhode Island, and Tennessee) to: (1) Identify environmental antecedents (underlying factors) to illness and disease outbreaks; (2) translate findings into improved prevention efforts using a systems-based approach; (3) offer training opportunities to current and future environmental health specialists; and (4) strengthen collaboration among epidemiology, laboratory, and environmental health programs. This CDC program offers insights into the current status of FSPs among EHS-Net partners, but information is lacking on a national scale.

In the current economic milieu, food safety, along with other public health programs, is being eliminated due to funding reductions. Therefore, the CDC proposes to conduct the “Evaluation of Food Safety Programs” survey among a representative sample of local and state health departments implementing FSPs in the United States (U.S.).

The purpose of this evaluation of local and state FSPs is to collect descriptive data on the current status and activities, to describe changes in status and activities from 2007 to 2012, and to determine if there is a relationship between funding and status and activities. Data will be collected on food safety activities, workforce capacity and competency, financial resources, community health, and demographics of FSPs. Data collected will help CDC better understand the relationship between different levels of funding and FSP effectiveness in the U.S.

The evaluation survey will take approximately two hours to complete. The survey will be completed once by respondents either manually or electronically. The CDC is asking for this data collection burden to allow local and state health departments ample time to request and obtain the information they need from their various departments and units to complete the evaluation survey.

There are over 3,000 state and local health departments in the U.S. It is unknown how many state and local health departments will actually participate in the evaluation survey, as participation will be voluntary. Per year, the anticipated number of respondents for this survey is 190 health departments, and the requested number of burden hours is 380. The CDC is requesting OMB approval for two years.

Only local and state health departments implementing food safety programs in the U.S. will be eligible to participate in the survey. There will be no cost to the respondents other than their time.

Estimated Annualized Burden Hours
Type of respondents | Form name | Number of respondents | Number of responses per respondent | Average burden per response (in hrs.) | Total burden (in hrs.)
Local health departments | Evaluation Survey (electronic) | 138 | 1 | 2 | 276
| Evaluation Survey (paper-based) | 35 | 1 | 2 | 70
State health departments | Evaluation Survey (electronic) | 14 | 1 | 2 | 28
| Evaluation Survey (paper-based) | 3 | 1 | 2 | 6
Total |  |  |  |  | 380

Leroy Richardson,
Chief, Information Collection Review Office, Office of Scientific Integrity, Office of the Associate Director for Science, Office of the Director, Centers for Disease Control and Prevention.

[FR Doc. 2013-21543 Filed 9-4-13; 8:45 am]

BILLING CODE 4163-18-P